DEPARTMENT OF THE INTERIOR

Bureau of Land Management

[LLNV912000 L13400000.PQ0000 LXSS006F0000; MO#]

Notice of Public Meeting of the Sierra Front-Northwestern Great Basin Resource Advisory Council

AGENCY: Bureau of Land Management, Interior.

ACTION: Notice of Meeting.

SUMMARY: In accordance with the Federal Land Policy and Management Act (FLPMA) of 1976, and the Federal Advisory Committee Act (FACA) of 1972, the U.S. Department of the Interior, Bureau of Land Management's (BLM) Sierra Front-Northwestern Great Basin Resource Advisory Council (RAC) will meet as indicated below.

DATES: The RAC will hold a public meeting on Thursday, October 12 and a field trip on Friday, October 13, to the Porter Springs Recreation Area within the BLM Winnemucca District. The meeting will begin at 8:00 a.m. and end at 5:00 p.m. However, the meeting could end earlier if discussions and presentations conclude before 4:30 p.m. On October 13, the field trip will begin at 7:30 a.m. and end at 4:00 p.m.

ADDRESSES: The meeting will be held at the BLM Winnemucca District Office, 5100 East Winnemucca Blvd., Winnemucca, NV and the field trip will depart from the BLM Winnemucca District Office. Comments may be submitted by email to lross@blm.gov with the words “SFNWGB RAC Oct. 2017 Comment” in the subject line. Written comments should be sent to the following address and be received no later than October 11, 2017 in order to be discussed at meeting; SFNWGB RAC Oct. 2017 Comment, Attention: Lisa Ross, 5665 Morgan Mill Road, Carson City, Nevada 89703.

FOR FURTHER INFORMATION CONTACT: Lisa Ross by telephone at (775) 885-6107, or by email at lross@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member RAC advises the Secretary of the Interior, through the BLM Nevada State Director, on a variety of planning and management issues associated with public land management in Nevada. Meeting agenda topics include updates on Wildfire, Burning Man, Wild Horses and Burros, Jordan Meadows Collaborative process, Mining, RAC subcommittee reports, and District manager's updates. Both the meeting and field trip are open to the public. However, the public is required to provide its own transportation for the field trip.

Individuals who plan to attend and need further information about the meeting or need special assistance such as sign language interpretation or other reasonable accommodations, may contact Lisa Ross at the phone number or email address above. A Public comment period will be available on October 12 from 8:10-8:30 a.m. and 4:30-5:00 p.m. during the meeting.

Before including your address, phone number, email address, or other personal identifying information in your comment, you should be aware that your entire comment, including your personal identifying information, may be made publicly available at any time. While you can ask the BLM in your comment to withhold your personal-identifying information from public review, we cannot guarantee that we will be able to do so.

Authority: 43 CFR 1784.4-2.

Chris Rose,
Acting Deputy Chief, Office of Communications.

[FR Doc. 2017-21964 Filed 10-10-17; 8:45 am]

BILLING CODE 4310-HC-P